DEPARTMENT OF DEFENSE

GENERAL SERVICES ADMINISTRATION

NATIONAL AERONAUTICS AND SPACE ADMINISTRATION

[OMB Control No. 9000-0061; Docket No. 2021-0053; Sequence No. 10]

Submission for OMB Review; Federal Acquisition Regulation Part 47: Transportation Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision of a previously approved information collection requirements regarding Federal Acquisition Regulation (FAR) part 47 transportation requirements.

DATES: Submit comments on or before October 4, 2021.

ADDRESSES: Written comments and recommendations for this information collection should be sent within 30 days of publication of this notice to www.reginfo.gov/public/do/PRAMain. Find this particular information collection by selecting “Currently under Review—Open for Public Comments” or by using the search function. Additionally, submit a copy to GSA through https://www.regulations.gov and follow the instructions on the site. This website provides the ability to type short comments directly into the comment field or attach a file for lengthier comments.

Instructions: All items submitted must cite “9000-0061, Federal Acquisition Regulation Part 47: Transportation Requirements.” Comments received generally will be posted without change to https://www.regulations.gov, including any personal and/or business confidential information provided. To confirm receipt of your comment(s), please check https://www.regulations.gov approximately two to three days after submission to verify posting. If there are difficulties submitting comments, contact the GSA Regulatory Secretariat Division at 202-501-4755 or GSARegSec@gsa.gov.

FOR FURTHER INFORMATION CONTACT: Jennifer Hawes, Procurement Analyst, at telephone 202-969-7386, or jennifer.hawes@gsa.gov.

SUPPLEMENTARY INFORMATION:

A. OMB Control Number, Title, and Any Associated Form(s)

9000-0061, Federal Acquisition Regulation Part 47: Transportation Requirements.

B. Need and Uses

This clearance covers the information that contractors must submit to comply with the following requirements in FAR part 47:

• FAR 52.247-2, Permits, Authorities, or Franchises. The clause requires an offeror to indicate whether it has the proper authorization from the Federal Highway Administration (or other cognizant regulatory body) before it can be allowed to move material under any contract for regulated freight transportation or transportation-related services. The offeror may also be requested to furnish a copy of the authorization before moving material under the contract. The contracting officer and transportation office review the information to ensure that the offeror has complied with all regulatory requirements and has obtained any permits, licenses, or franchises that are needed to transport the supplies.

• FAR 52.247-6, Financial Statement. This provision requires an offeror to furnish the Government with a current certified statement of the offeror's financial condition and such data as the Government may request with respect to the offeror's operations. The contracting officer uses this information to determine whether a potential awardee is responsible in accordance with FAR part 9.

• FAR 52.247-48, F.o.b. Destination—Evidence of Shipment. This clause requires the contractor to retain and make available to the Government for review, as necessary, evidence of free on board (f.o.b.) destination shipment documentation for a period of three years after final payment of the contract. The Government may request this information from the contractor while auditing a contract or to resolve disputes.

• FAR 52.247-51, Evaluation of Export Offers. This provision requires an offeror to nominate a port/terminal of loading they recommend for the purposes of evaluation of their offer and indicate whether the prices proposed are based on f.o.b. origin or f.o.b. destination. The contracting officer uses the information to ensure that offers are evaluated and awards are made on the basis of the lowest laid down cost to the Government at the overseas port of discharge.

• FAR 52.247-52, Clearance and Documentation Requirements—Shipments to DOD Air or Water Terminal Transshipment Points. This clause directs the contractor to provide the Government certain information regarding shipments to DoD air or water terminal transshipment points. The Government transportation office uses this information to support applications for export release and to prepare the Transportation Control and Movement Document (TCMD).

• FAR 52.247-53, Freight Classification Description. When the Government purchases supplies that are new to the supply system, nonstandard, or modifications of previously shipped items, and different freight classifications may apply, this provision requests an offeror provide the full Uniform Freight Classification (rail) description, or the National Motor Freight Classification description applicable to the supplies. The contracting officer uses this information to determine the proper freight for supplies.

• FAR 52.247-57, Transportation Transit Privilege Credits. This clause allows the offeror to identify any transportation charges, including any transit charges, that the offeror will agree to pay, subject to reimbursement by the Government. The contracting officer uses this information to ensure consideration of an offeror's transit credits when evaluating an f.o.b. origin price for shipping supplies to the designated Government destinations.

• FAR 52.247-60, Guaranteed Shipping Characteristics. This clause requires the offeror to provide details on the shipping container(s) to be used for each part or component that is packed or packaged separately. The contracting officer uses this information to determine transportation costs for evaluation purposes.

• FAR 52.247-63, Preference for U.S.-Flag Air Carriers. In the event that a contractor selects a carrier other than a U.S.-flag air carrier for international air transportation during performance of the contract, this clause requires the contractor to include a statement regarding the unavailability of U.S.-Flag Air Carriers on vouchers involving such transportation. The Government uses the information provided on the voucher to ensure compliance with section 5 of the International Air Transportation Fair Competitive Practices Act of 1974 (49 U.S.C. 40118), which requires the Government and its contractors and subcontractors to use U.S.-flag air carriers for U.S. Government-financed international air transportation of personnel (and their personal effects) or property, to the extent that service by those carriers is available.

• FAR 52.247-64, Preference for Privately Owned U.S.-Flag Commercial Vessels. This clause requires a contractor to provide the contracting officer and the Maritime Administration's one legible copy of rated on-board ocean bill of lading for each shipment made by the contractor or its subcontractors. The Government uses this information to ensure compliance with the Cargo Preference Act of 1954.

• FAR 52.247-67, Submission of Transportation Documents for Audit. This clause requires the contractor to submit for prepayment audit transportation documents on which the United States will assume freight charges that were paid by the contractor under a cost-reimbursement contract or by the contractor's first-tier subcontractor (for a cost-reimbursement subcontract). For freight shipment bills under $100 are to be retained on-site by the contractor and made available for on-site audits. The Government uses this information to conduct a prepayment audit of transportation charges on a cost-reimbursement contract when reimbursement of transportation as a direct charge to the contract or subcontract is authorized. The prepayment audit is required to comply with agency prepayment audit programs established pursuant to 31 U.S.C. 3726.

• FAR 52.247-68, Report of Shipment (REPSHIP). This clause requires contractors to send an advance notice of shipment to the consignee transportation officer to be received at least 24 hours before the arrival of the shipment, unless otherwise directed by a contracting officer. The Government uses this information to alert the receiving activity of certain shipments. The advance notice facilitates arrangements for transportation control, labor, space, and use of materials handling equipment at destination. The timely receipt of notices by the consignee transportation office precludes the Government from incurring demurrage and vehicle detention charges.

• FAR 47.303 Clauses for Standard Delivery Terms. The following FAR clauses require the contractor to (as appropriate to the delivery terms specified in the contract): Prepare or provide special annotation on a Government or commercial bill of lading; provide an ocean bill of lading or airway bill; annotate commercial shipping documents; distribute copies of the bill of lading; provide applicable transportation receipts; assist in obtaining documents for exportation or importation destinations; and/or obtain insurance documents. The contracting officer and the Government transportation office use this information in awarding and administering contracts to ensure: (1) Acquisitions are made on the basis most advantageous to the Government; and (2) supplies arrive in good order and condition and on time at the required place.

C. Annual Burden

Respondents: 17,565.

Recordkeepers: 940.

Total Annual Responses: 256,208.

Total Burden Hours: 23,097 (22,079 reporting hours + 1,018 recordkeeping hours).

D. Public Comment

A 60-day notice was published in the Federal Register at 86 FR 33293, on June 24, 2021. No comments were received.

Obtaining Copies: Requesters may obtain a copy of the information collection documents from the GSA Regulatory Secretariat Division by calling 202-501-4755 or emailing GSARegSec@gsa.gov. Please cite OMB Control No. 9000-0061, Federal Acquisition Regulation Part 47: Transportation Requirements.

Janet Fry,
Director, Federal Acquisition Policy Division, Office of Governmentwide Acquisition Policy, Office of Acquisition Policy, Office of Governmentwide Policy.

[FR Doc. 2021-19056 Filed 9-2-21; 8:45 am]

BILLING CODE 6820-EP-P